DEPARTMENT OF COMMERCE

Membership of the Departmental Performance Review Board

AGENCY: Department of Commerce

ACTION: Notice of membership of Departmental Performance Review Board.

SUMMARY: In accordance with 5 U.S.C., 4313(c)(4), DOC announces the appointment of persons to serve as members of the Office of the Secretary (OS) Performance Review Board (PRB). The OS/PRB is responsible for reviewing performance appraisals and ratings of Senior Executive Service (SES) members. The appointment of these members to the OS/PRB will be for periods of 24 months.

EFFECTIVE DATE: The effective date of service of appointees to the Office of the Secretary Performance Review Board is upon publication of this notice.

FOR FURTHER INFORMATION CONTACT: Janet C. Hoffheins, Deputy Director, Office of Executive Resources, Office of Human Resources Management, Office of the Director, 14th and Constitution Avenue, NW., Washington, DC. 20230, (202) 482-4807.

SUPPLEMENTARY INFORMATION: The names, position titles, and type of appointment of the members of the OS/PRB are set forth below by organization:

U.S. Department of Commerce

Office of the Secretary, Performance Review Board Membership

The following individuals are eligible to serve on the Performance Review Board in accordance with the Senior Executive Service Performance Management System of the Office of the Secretary.

Kathleen J. Taylor

Linda Moye-Cheatham

Thomas N. Pyke, Jr.

Miriam Cohen

Fred L. Schwien

David S. Bohigian

Denise L. Wells

James L. Taylor

Janet C. Hoffheins,
Deputy Director, Office for Human Resources Management.

[FR Doc. 03-26086 Filed 10-15-03; 8:45 am]

BILLING CODE 3510-BS-M